DEPARTMENT OF HOMELAND SECURITY

Coast Guard

[Docket No. USCG-2024-0886]

National Maritime Security Advisory Committee; December 2024 Virtual Meeting

AGENCY: U.S. Coast Guard, Department of Homeland Security.

ACTION: Notice of open Federal advisory committee virtual meeting.

SUMMARY: The National Maritime Security Advisory Committee (Committee) will conduct a virtual meeting to discuss new Committee taskings on Cybersecurity Regulation Implementation, Regulatory/Navigation and Vessel Inspection Circular Revisions, and Homeport Modernization. The virtual meeting will be open to the public.

DATES:

Meeting: The Committee will meet virtually on Tuesday, December 3, 2024, from 2:30 p.m. until 3:30 p.m. Eastern Standard Time (EST). Please note this virtual meeting may close early if the Committee has completed its business.

Comments and supporting documentation: To ensure your comments are received by Committee members before the virtual meeting, submit your written comments no later than November 25, 2024.

ADDRESSES: To join the virtual meeting or to request special accommodations, contact the individual listed in the FOR FURTHER INFORMATION CONTACT section no later than 1 p.m. EST on November 25, 2024, to obtain the needed information. The number of virtual lines are limited and will be available on a first-come, first-served basis.

Pre-registration information: Pre-registration is required for attending virtual meeting. You must request attendance by contacting the individual listed in the FOR FURTHER INFORMATION CONTACT section of this notice. You will receive response with attendance instructions.

The National Maritime Security Advisory Committee is committed to ensuring all participants have equal access regardless of disability status. If you require reasonable accommodations due to a disability to fully participate, please email Mr. Ryan Owens at ryan.f.owens@uscg.mil or call (202) 302-6565.

Instructions: You are free to submit comments at any time, including orally at the virtual meeting as time permits, but if you want Committee members to review your comment before the virtual meeting, please submit your comments no later than November 25, 2024. We are particularly interested in comments regarding the topics in the “Agenda” section below. We encourage you to submit comments through Federal Decision Making Portal at https://www.regulations.gov. To do so, go to https://www.regulations.gov, type USCG-2024-0886 in the search box and click “Search”. Next, look for this document in the Search Results column and click on it. Then click on the Comment option. If your material cannot be submitted using https://www.regulations.gov, email the individual in the FOR FURTHER INFORMATION CONTACT section of this document for alternate instructions. You must include the docket number USCG-2024-0886. Comments received will be posted without alteration at https://www.regulations.gov including any personal information provided. You may wish to review the Privacy and Security Notice found via a link on the homepage https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, telephone 202-302-6565 or email at ryan.f.owens@uscg.mil.

SUPPLEMENTARY INFORMATION: Notice of this virtual meeting is in compliance with the Federal Advisory Committee Act, (Pub. L. 117-286, 5 U.S.C. ch.10). The Committee is authorized by section 601 of the Frank LoBiondo Coast Guard Authorization Act of 2018, Public Law 115-282, 132 Stat. 4190, and is codified in 46 U.S.C. 70112. The Committee operates under the provisions of the Federal Advisory Committee Act and 46 U.S.C. 15109. The National Maritime Security Advisory Committee provides advice, consults with, and makes recommendations to the Secretary of Homeland Security, via the Commandant of the U.S. Coast Guard, on matters relating to national maritime security.

Agenda

Tuesday, December 3, 2024

(1) Call to Order.

(2) Introduction.

(3) Designated Federal Official Remarks.

(4) Roll call of Committee members and determination of quorum.

(5) Remarks from Committee Leadership.

(6) Introduction and Discussion of new Tasks:

a. Cybersecurity Regulation Implementation. The Committee will be asked to create a working group to assist the U.S. Coast Guard in providing feedback and challenges in implementation of U.S. Coast Guard Cyber Security Regulations.

b. Regulatory/Navigation and Vessel Inspection Circular Revisions (NVIC). The Committee will be asked to create a working group to review existing pertinent NVICs and any recommendations for updating.

c. Homeport Modernization. The Committee will be asked to create a working group to provide recommendations to the Coast Guard on modernizing the Homeport internet Portal.

(7) Public Comment Period.

(8) Closing Remarks.

(9) Adjournment of Meeting.

A copy of all meeting documentation and tasks will be available at https://homeport.uscg.mil/NMSAC no later than November 25, 2024. Alternatively, you may contact the individual noted in the FOR FURTHER INFORMATION section above.

There will be a public comment period at the end of virtual meeting. Speakers are requested to limit their comments to 3 minutes. Please note that the public comment period may end before the period allotted, following the last call for comments.

Please contact the individual listed in the FOR FURTHER INFORMATION CONTACT section above to register as a speaker.

Dated: November 7, 2024.
Amy M. Beach,
Captain, U.S. Coast Guard, Director of Inspections and Compliance.

[FR Doc. 2024-26445 Filed 11-13-24; 8:45 am]

BILLING CODE 9110-04-P